DEPARTMENT OF JUSTICE

[OMB Number 1121-0292]

Agency Information Collection Activities: Existing Collection; Comments Requested

ACTION: 30-Day Notice of Information Collection Under Review Extension and revision of a Currently Approved Collection; Survey of Sexual Violence.

The Department of Justice (DOJ), Bureau of Justice Statistics (BJS) will be submitting the following information collection request to the Office of Management and Budget (OMB) for review and approval in accordance with the Paperwork Reduction Act of 1995. The proposed information collection is published to obtain comments from the public and affected agencies. This proposed information collection was previously published in the Federal Register Volume 75, number 220, page 70030 on November 16, 2010, allowing for a 60 day comment period.

The purpose of this notice is to allow for an additional 30 days for public comment until March 17, 2011. This process is conducted in accordance with 5 CFR 1320.10.

If you have comments especially on the estimated public burden or associated response time, suggestions, or need a copy of the proposed information collection instrument with instructions or additional information, please contact Paul Guerino, Bureau of Justice Statistics, 810 Seventh Street, NW., Washington, DC 20531 (phone: 202-307-0349).

Written comments concerning this information collection should be sent to the Office of Information and Regulatory Affairs, Office of Management and Budget, Attn: DOJ Desk Officer. The best way to ensure your comments are received is to e-mail them to oira_submission@omb.eop.gov or fax them to 202-395-7285. All comments should reference the 8 digit OMB number for the collection or the title of the collection. If you have questions concerning the collection, please call Paul Guerino, Bureau of Justice Statistics, 810 Seventh Street, NW., Washington, DC 20531 (phone: 202-307-0349) or the DOJ Desk Officer at 202-395-3176.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Existing collection with change.

(2) Title of the Form/Collection: Survey of Sexual Violence.

(3) Agency form number, if any, and the applicable component of the Department of Justice sponsoring the collection: Form Number: SSV1, SSV2, SSV3, SSV4, SSV5, SSV6; SSV-IA, SSV-IJ; Bureau of Justice Statistics, Department of Justice.

(4) Affected public who will be asked or required to respond, as well as a brief abstract: Primary: State, Local, or Tribal Government. Other: Federal Government, Business or other for-profit, Not-for-profit institutions. The data will be used to develop estimates for the incidence and prevalence of sexual assault within correctional facilities as required under the Prison Rape Elimination Act of 2003 (Pub. L. 108-79).

(5) An estimate of the total number of respondents and the amount of time estimated for an average respondent to respond: It is estimated that 1,281 respondents will complete each summary form within 60 minutes and each substantiated incident form (as needed, we estimate about 1,100 forms will be completed) in 15 minutes.

(6) An estimate of the total public burden (in hours) associated with the collection: There are an estimated 1,556 total annual burden hours associated with this collection.

If additional information is required contact: Mrs. Lynn Murray, Department Clearance Officer, United States Department of Justice, Justice Management Division, Policy and Planning Staff, Two Constitution Square, 145 N Street, NE., Suite 2E-502, Washington, DC 20530.

Dated: February 9, 2011.
Lynn Murray,
Department Clearance Officer, PRA, U.S. Department of Justice.

[FR Doc. 2011-3298 Filed 2-14-11; 8:45 am]

BILLING CODE 4410-18-P